DEPARTMENT OF AGRICULTURE

Submission for OMB Review; Comment Request

January 25, 2021.

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology Comments regarding these information collections are best assured of having their full effect if received by March 1, 2021. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Agricultural Marketing Service

Title: Plan for Estimating Daily Livestock Slaughter under Federal Inspection.

OMB Control Number: 0581-0050.

Summary of Collection: The Agriculture Marketing Act of 1946 (7 U.S.C. 1621-1627) Section 203(g), directs and authorizes the collection and dissemination of marketing information, including adequate outlook information on a market area basis, for the purpose of anticipating and meeting consumer requirements aiding in the maintenance of farm income and to bring about a balance between production and utilization. Livestock, Poultry, and Grain market news provides a timely exchange of accurate and unbiased information on current marketing conditions (supply, demand, prices, trends, movement, and other information) affecting trade in livestock, poultry, meats, eggs, grain, hay and wool. Administered by the U.S. Department of Agriculture's Agricultural Marketing Service (AMS), this nationwide market news program is conducted in cooperation with approximately 28 State departments of agriculture.

Need and Use of the Information: AMS will collect information on estimation of the current day's slaughter at their plant(s) and the actual slaughter of the previous day. The report is used to make market outlook projections and maintain statistical data. The up-to-the-minute reports collected and disseminated by professional market reporters are intended to provide both buyers and sellers with the information necessary for making intelligent, informed marketing decisions, thus putting everyone in the marketing system in an equal bargaining position. Since the government is a large purchaser of meat, a system to monitor the collection and reporting of data is needed. Collecting this information less frequently would hinder the timely use of this data.

Description of Respondents: Business or other for-profit; Individuals or households; Farms.

Number of Respondents: 60.

Frequency of Responses: Reporting; Weekly; Other: Daily.

Total Burden Hours: 519.

Levi S. Harrell,
Departmental Information Collection Clearance Officer.

[FR Doc. 2021-01881 Filed 1-27-21; 8:45 am]

BILLING CODE 3410-02-P